FEDERAL ELECTION COMMISSION

11 CFR Part 111

[Notice 2022-04]

Agency Procedure Concerning the Treatment of Foreign State Respondents at the Initiation of the Enforcement Process

AGENCY: Federal Election Commission.

ACTION: Adoption of Agency procedure.

SUMMARY: The Federal Election Commission is adopting a procedure concerning the enforcement process in situations where the respondent to a complaint is a foreign state, a political subdivision of a foreign state, a head of state or other foreign official acting in his or her official capacity, or an agency or instrumentality of a foreign state.

DATES: The procedure is adopted as of March 3, 2022.

FOR FURTHER INFORMATION CONTACT: Mr. Robert Mark Knop, Assistant General Counsel, 1050 First Street NE, Washington, DC 20463, (202) 694 1650 or (800) 424 9530.

SUPPLEMENTARY INFORMATION: This procedure requires the Commission to adopt a supplemental notification process in matters involving foreign state respondents.

In all enforcement matters in which a foreign state, political subdivision of a foreign state, a head of state or other foreign official acting in his or her official capacity, or any agency or instrumentality of a foreign state is identified as a respondent, the Office of General Counsel (“OGC”), prior to issuing the notification letters required by 52 U.S.C. 30109(a)(1), will notify the Office of the Legal Adviser at the Department of State (“Department”) of the receipt of the complaint and of the Commission's statutory notification obligations. This procedure does not alter the Commission's statutory obligation to issue notification letters to respondents within the period required by 52 U.S.C. 30109(a)(1).

In such matters, OGC will provide a simultaneous report to the Commission concerning the notification to the Department and will promptly inform the Commission of any subsequent communications between OGC and the Department.

Within forty-five days of receiving a complaint naming a foreign state respondent, OGC will make a recommendation to the Commission as to whether consultation with the Department is appropriate to obtain its views concerning any legal or factual question presented by the matter.

This notification represents a general statement announcing the general course of action that the Commission intends to follow. This rule of agency procedure does not constitute an agency regulation requiring notice of proposed rulemaking, opportunities for public participation, prior publication, and delay in effective date under 5 U.S.C. 553 of the Administrative Procedure Act (“APA”). The provisions of the Regulatory Flexibility Act, 5 U.S.C. 605(b), which apply when notice and comment are required by the APA or another statute, are not applicable.

Dated: February 18, 2022.
On behalf of the Commission,
Allen J. Dickerson,
Chairman, Federal Election Commission.

[FR Doc. 2022-04358 Filed 3-2-22; 8:45 am]

BILLING CODE 6715-01-P